AGENCY FOR INTERNATIONAL DEVELOPMENT

Board for International Food and Agricultural Development; Notice of Meeting

Pursuant to the Federal Advisory Committee Act, notice is hereby given of the public meeting of the Board for International Food and Agricultural Development (BIFAD). The meeting will be held from 1 p.m. to 5 p.m. on October 11, 2011 at the Downtown Des Moines Marriott located at 700 Grand Avenue, Des Moines, Iowa. “The Next Generation: Global Food Security through Human and Institutional Capacity Building” will be the central theme of this year's fall meeting.

Prior to the public meeting USAID, BIFAD and the Association of Land Grant Universities (APLU) will co-host a luncheon from 11 a.m. to 12:45 p.m. featuring Dr. Calestous Juma of Harvard as keynote speaker.

Dr. Brady Deaton, BIFAD Chair, will preside over the proceedings. Dr. Deaton is the Chancellor of the University of Missouri at Columbia.

Held in conjunction with the 2011 World Food Prize Symposium, this year's meeting sets the stage for a robust dialogue on the range of challenges typically associated with building human capital and the local institutions that support them. The meeting will include the participation of the full BIFAD. Including Dr. Deaton, the Board is comprised of Jo Luck, past President of Heifer International, Marty McVey of McVey & Associates, LLC, Gebisa Ejeta of Purdue University, Catherine Bertini of Syracuse University, Elsa Murano of Texas A&M University and William DeLauder, formerly of Delaware State University.

Prior to the public Board meeting USAID/BIFAD/APLU will host a luncheon on Human and Institutional Capacity Development. The luncheon starts at 11 a.m. and will feature Dr. Calestous Juma of Harvard University as keynote speaker. Those interested in attending the luncheon prior to the Board meeting must register in advance at (http://humanandinstitutionalcapacitybuildingluncheon.eventbrite.com). The lunch is free and open to the public.

The public meeting will begin promptly at 1 p.m. with opening remarks by BIFAD Chair Brady Deaton. Immediately following is a panel featuring young scientists focused on their U.S. fellowship experience, host country institutional issues, and their perspectives on what is needed to support and promote the scientists and leaders of tomorrow. Panelists will include representatives from the Norman Borlaug LEAP Fellowship program, the USDA Borlaug Fellowship program, an AWARD fellow, a lecturer from Makerere University in Uganda, and a graduate student of a Collaborative Research Support Program. The second panel, moderated by Board member Gebisa Ejeta, will feature noted experts in the field of human and institutional capacity development (HICD) and their perspectives on tomorrow's approaches to HICD. USAID will then provide updates to the BIFAD on the Feed the Future Research Strategy. The Board members next will provide updates on the activities of their working groups on Haiti and Minority Serving Institutions. The last 30 minutes of the meeting will comprise the public comment period of the meeting.

The Board meeting is open to the public and the Board members benefits greatly in hearing from the stakeholder community and others. To ensure that as many people as possible have the opportunity to contribute to the morning's discussions, comments will be restricted to 3 minutes for each commenter. At the conclusion of the public comment period, the Board will adjourn the meeting.

Those wishing to attend the meeting or obtain additional information about BIFAD should contact Susan Owens, Executive Director and Designated Federal Officer for BIFAD. Interested persons may write her in care of the U.S. Agency for International Development, Ronald Reagan Building, Bureau for Food Security, 1300 Pennsylvania Avenue, NW., Room 7.8-061, Washington, DC 20523-2110 or telephone her at (202) 712-0218 or fax (202) 216-3124.

Susan J. Owens,
USAID Designated Federal Officer for BIFAD, Bureau for Food Security, U.S. Agency for International Development.

[FR Doc. 2011-24385 Filed 9-21-11; 8:45 am]

BILLING CODE P